OFFICE OF THE UNITED STATES TRADE REPRESENTATIVE

[Docket No. USTR-2009-0011]

Initiation of Section 302 Investigation, Determination of Action Under Section 301, and Request for Comments: Canada-Compliance With Softwood Lumber Agreement

Correction

In notice document E9-8232 beginning on page 16436 in the issue of Friday, April 10, 2009 make the following correction:

On page 16438, in the second column, immediately following the signature block, five photographed pages were inadvertently deleted. They are reprinted in full below:

BILLING CODE 1505-01-D

[FR Doc. Z9-8232 Filed X-XX-09; 8:45 am]

BILLING CODE 1505-01-C